DEPARTMENT OF COMMERCE

National Oceanic and Atmospheric Administration

RIN 0648-XD037

Gulf of Mexico Fishery Management Council (Council); Public Meetings

AGENCY: National Marine Fisheries Service (NMFS), National Oceanic and Atmospheric Administration (NOAA), Commerce.

ACTION: Notice of public meetings.

SUMMARY: The Gulf of Mexico Fishery Management Council will hold a series of recreational angler participation sessions around the Gulf coast.

DATES: The sessions will be held from Wednesday, January 8th through Monday, January 27th, 2014 at nine locations throughout the Gulf of Mexico. The Council will also host a webinar Monday, January 27th for those unable to attend the sessions in person. For specific dates and locations, see SUPPLEMENTARY INFORMATION.

ADDRESSES:

Meeting address: The recreational angler participation meetings will be held in the following locations: St. Petersburg, Fort Myers, and Destin, FL; Baton Rouge and Lafayette, LA; Ocean Springs, MS; Spanish Fort, AL; Port Aransas and Houston, TX.

Council address: Gulf of Mexico Fishery Management Council, 2203 North Lois Avenue, Suite 1100, Tampa, FL 33607.

FOR FURTHER INFORMATION CONTACT: Ms. Emily Muehlstein, Fisheries Outreach Specialist, Gulf of Mexico Fishery Management Council; telephone: (813) 348-1630; fax: (813) 348-1711; email: Emily.muehlstein@gulfcouncil.org.

SUPPLEMENTARY INFORMATION: The items of discussion in the sessions are:

Recreational angler concerns and solutions on federal fisheries management. These recreational angler participation sessions are designed to solicit information from stakeholders. The Council would like recreational anglers to identify issues that they are experiencing with federal fisheries management and hear potential solutions to those issues. The nine public hearings will take place at the following times and locations:

Wednesday, January 8, 2014, 6 p.m. until 9 p.m., Gulf Coast Research Laboratory, 703 E. Beach Drive, Ocean Springs, MS 39564; (228) 872-4000

Thursday, January 9, 2014, 6 p.m. until 9 p.m., Five Rivers Delta Resource Center, 30945 Five Rivers Boulevard, Spanish Fort, AL 36527; (251) 625-0814

Saturday, January 11, 2014, 9 a.m. until 12 noon, Destin Community Center, 101 Stahlman Avenue, Destin, FL 32541; (850) 654-5184

Monday, January 13, 2014, 6 p.m. until 9 p.m., University of Texas Marine Science Institute, 630 E. Cotter Street, Port Aransas, TX 78373; (361) 749-6711

Tuesday, January 14, 2014, 6 p.m. until 9 p.m., Bass Pro Shop, 1000 Basspro Drive, Houston, TX 77047; (713) 770-5100

Wednesday, January 15, 2014, 6 p.m. until 9 p.m., Mockler Beverage Company, 11811 Reiger Road, Baton Rouge, LA 70809; (225) 408-4283

Thursday, January 16, 2014, 6 p.m. until 9 p.m., Service Chevrolet, 1212 Ambassador Caffery Parkway, Lafayette, LA 70506; (337) 234-9411

Wednesday, January 22, 2014, 6 p.m. until 9 p.m., Bill Jackson's, 9501 US Highway 19 North, Pinellas Park, FL 33782; (727) 576-4169

Thursday, January 23, 2014, 6 p.m. until 9 p.m., Bass Pro Shop, 10040 Gulf Center Drive, Fort Myers, FL 33913; (239) 461-7800

Monday, January 27, 2014, 6 p.m. until 9 p.m. Eastern Standard Time.

To register for the webinar visit: https://www4.gotomeeting.com/register/390667327. Copies of the meeting summaries can be obtained by calling 813-348-1630.

Although non-emergency issues not contained in this agenda may come before this group for discussion, those issues may not be the subject of formal action during these meetings. Action will be restricted to those issues specifically identified in this notice and any issues arising after publication of this notice that require emergency action under section 305c of the Magnuson-Stevens Fishery Conservation and Management Act, provided the public has been notified of the Council's intent to take final action to address the emergency. These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: December 17, 2013.
Tracey L. Thompson,
Acting Deputy Director, Office of Sustainable Fisheries, National Marine Fisheries Service.

[FR Doc. 2013-30343 Filed 12-19-13; 8:45 am]

BILLING CODE 3510-22-P